DEPARTMENT OF TRANSPORTATION

Maritime Administration

U.S. Merchant Marine Academy Advisory Council; Public Meeting

AGENCY: Maritime Administration, DOT.

ACTION: Notice of public meeting.

SUMMARY: The U.S. Department of Transportation, Maritime Administration announces a meeting of the U.S. Merchant Marine Academy (USMMA) Advisory Council (Council).

DATES: The meeting will be held on Monday, Aug 7, 2023, from 9:00 a.m. to 4:30 p.m. Eastern Daylight Time (EDT). Requests to attend the meeting must be received no later than 5:00 p.m. EDT on Monday, July 31, 2023, in order to facilitate entry. Requests to submit written materials to be reviewed during the meeting must be received no later than July 26, 2023. Requests for accommodations for a disability must be received by July 28, 2023.

ADDRESSES: The meeting will be held in-person at the USMMA. Meeting access information will be available no later than Aug 3, 2023. Information on who the committee members are can be found in the U.S. Maritime Administration's Press release: https://www.maritime.dot.gov/newsroom/secretary-buttigieg-appoints-members-us-merchant-marine-academy-advisory-council.

FOR FURTHER INFORMATION CONTACT: The Council's Designated Federal Officer and Point of Contact, Will Sheehan, 202-366-4105 or will.sheehan@dot.gov.

SUPPLEMENTARY INFORMATION:

I. Background

The Council is established pursuant to 46 U.S.C. 51323. The Council operates in accordance with the provisions of the Federal Advisory Committee Act (FACA), as amended, 5 U.S.C. app. 2.

The objective and scope of the Council is to provide independent advice and recommendations to the Secretary of Transportation (Secretary) on matters relating to the USMMA including in the areas of curriculum development and training programs; diversity, equity, and inclusion; sexual assault prevention and response; infrastructure maintenance and redevelopment; midshipmen health and welfare; governance and administrative policies; and other matters.

II. Agenda

The meeting agenda will cover the following proposed topics:

1. Welcome, opening remarks, and introductions.

2. Academy Operations Program Overview (Instructional Program, Midshipman Program, Office of Admissions, and other administrative and support functions).

3. Capital Asset Management Program Overview (Capital Improvement Projects, Facilities Maintenance, Repairs and Equipment, and tour of Academy grounds).

4. Discussions on problem sets and recommendations (e.g., the November 2021 National Academy of Public Administration's report entitled, “Organizational Assessment of the U.S. Merchant Marine Academy: A Path Forward.”).

5. Administrative items.

6. Public comment.

III. Public Participation

This meeting is open to the public and will be held in-person at the United States Merchant Marine Academy. The U.S. Department of Transportation is committed to providing equal access to this meeting for all participants. If you need alternative formats or services because of a disability, such as sign language, interpretation, or other ancillary aids, please contact the person listed in the FOR FURTHER INFORMATION CONTACT section. Seating will be limited and available on a first-come-first-serve basis.

Any member of the public is permitted to file a written statement with the Council. Written statements should be sent to the Designated Federal Officer listed in the FOR FURTHER INFORMATION CONTACT section no later than July 26, 2023.

Only written statements will be considered by the Council; no member of the public will be allowed to present questions or speak during the meeting unless requested to do so by a member of the Council.

(Authority: 46 U.S.C. 51323; 5 U.S.C. 552b; 5 U.S.C. app. 2; 41 CFR parts 102-3.140 through 102-3.165.)

By Order of the Maritime Administrator.
T. Mitchell Hudson, Jr.,
Secretary, Maritime Administration.

[FR Doc. 2023-15384 Filed 7-19-23; 8:45 am]

BILLING CODE 4910-81-P